DEPARTMENT OF JUSTICE

Antitrust Division

Notice Pursuant to the National Cooperative Research and Production Act of 1993—Information Warfare Research Project Consortium

Notice is hereby given that, on October 15, 2018, pursuant to Section 6(a) of the National Cooperative Research and Production Act of 1993, 15 U.S.C. 4301 et seq. (“the Act”), Information Warfare Research Project Consortium (“IWRP”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 2 Twelve Solutions, Arlington, VA; Aeronix, Inc., Melbourne, FL; Applied Engineering Concepts, Inc., Eldersburg, MD; Applied Signals Intelligence, Inc., Sterling, VA; Applied Technical Systems, Inc., Silverdale, WA; Aquabotix Technology Corporation, Fall River, MA; Aspen Consulting Group, Inc., Point Pleasant, NJ; AT&T Government Solutions, Inc., Vienna, VA; Atlantic CommTech Corp., Norfolk, VA; Avineon, Inc., McLean, VA; BAE Systems Information & Electronic Systems Integration, Inc., Nashua, NH; BCF Solutions, Inc., Chantilly, VA; BioRankings, St. Louis, MO; Boarhog LLC, San Diego, CA; Booz Allen Hamilton, Inc., McLean, VA; Brandywine Communications, Tustin, CA; Burke Consortium, Incorporated, Alexandria, VA; CACI, Inc. Federal, Sterling, VA; Cirrus, LLC, Walla Walla, WA; COLSA Corporation, Huntsville, AL; Colvin Run Networks, LLC, Great Falls, VA; Craig Technologies, Cape Canaveral, FL; DataSoft Corp., Tempe, AZ; Decisive Analytics Corporation, Arlington, VA; Dell Federal Systems L.P., Round Rock, TX; DLT Solutions, LLC, Herndon, VA; DroneShield LLC, Warrenton, VA; Dynetics, Inc., Huntsville, AL; ECS Federal, LLC, Fairfax, VA; Engineering Science Analysis Corp., Tempe, AZ; Enveil, Inc., Fulton, MD; Epoch Concepts, LLC, Highlands Ranch, CO; EWA- Government Systems, Inc., Herndon, VA; FGS, LLC, La Plata, MD; ForgeAi, Inc., Cambridge, MA; Frontier Technology, Inc., Beavercreek, OH; G2 Ops, Inc., Virginia Beach, VA; General Dynamics Information Technology, Inc., Fairfax, VA; General Dynamics Mission Systems, Inc., Fairfax, VA; General Electric Company, Lynn, MA; GenXComm Inc., Austin, TX; Geocent LLC, Metairie, LA; Geon Technologies LLC, Columbia, MD; George Consulting Ltd., Charleston, SC; Georgia Tech Research Corporation, Atlanta, GA; GPS Source, Inc., Pueblo, CO; Grey Matters Defense Solutions LLC, Castle Rock, CO; Grove Resource Solutions, Inc. (GRSi), Frederick, MD; Hamilton Consulting Solutions Corporation (HCSC), Chesapeake, VA; Hegarty Research LLC, McLean, VA; Home2Office Computing Solutions, Inc. dba C3 Networx, San Diego, CA; IBM Federal Department of the Navy, Armonk, NY; Indiana Microelectronics LLC, West Lafayette, IN; Intelligent Automation, Inc., Rockville, MD; Intelligent Decision Systems, Inc., Centreville, VA; Interclypse, Inc., Annapolis Junction, MD; IOMAXIS LLC, Lorton, VA; Keysight Technologies, Inc., Santa Rosa, CA; KinetX Aerospace, Inc., Tempe, AZ; King Technologies, Inc., San Diego, CA; Life Cycle Engineering, Inc., North Charleston, SC; Lone Star Analysis, Addison, TX; McKean Defense Group LLC, Philadelphia, PA; Metron, Inc., Reston, VA; Metronome LLC, Fairfax, VA; Microsoft Corporation (Microsoft Corporation Sitz in Redmond Corporation), Redmond, WA; Minerva Systems & Technologies LLC, Lexington, KY; Mission Solutions Group, Mt. Pleasant, SC; Modus21 LLC, Mount Pleasant, SC; NEANY Inc., Hollywood, MD; NexGen Data Systems, Inc., Goose Creek, SC; NineFX, Inc., Columbia, SC; Norseman, Inc., Elkridge, MD; Novetta, Inc., McLean, VA; Octo Consulting Group, Inc., Reston, VA; Omega-KR LLC, Austin, TX; Open Source Systems LLC, Charleston, SC; Oracle America, Inc., Reston, VA; Pacific Aerospace Consulting, Inc., San Diego, CA; Pacific Science & Engineering Group, Inc., San Diego, CA; Parsons Government Services, Inc., Pasadena, CA; PEMCCO Inc., Virginia Beach, VA; Peregrine Technical Solutions, LLC, Yorktown, VA; PGFM Solutions LLC, Sewell, NJ; Pillar Global Solutions, Inc., Stafford, VA; PortOne Technology Group LLC, Summerville, SC; Product Data Integration Technologies Inc. dba Modulant Inc., North Charleston, SC; RAM Laboratories, Inc., San Diego, CA; Real-Time Innovations, Inc., Sunnyvale, CA; Research Innovations Incorporated, Alexandria, VA; Reservoir Labs, Inc., New York, NY; Rite-Solutions, Inc., Pawcatuck, CT; Rockwell Collins, Inc., Cedar Rapids, IA; RPI Group, Inc., Fredericksburg, VA; Scientific Research Corporation (SRC), Atlanta, GA; Secure Channels, Inc., Irvine, CA; Segue Technologies, Inc., Arlington, VA; Sellers & Associates LLC, Chesapeake, VA; Semper Fortis Solutions, Leesburg, VA; Semper Valens Solutions, Inc., Canyon Lake, TX; Sentar, Inc., Huntsville, AL; Sentient Science Corporation, Buffalo, NY; Service Robotics & Technologies, Arlington, VA; Shadow-Soft LLC, Sandy Springs, GA; Si2 Technologies, Inc., N. Billerica, MA; Sierra Nevada Corporation, Sparks, NV; SIFT LLC, Minneapolis, MN; SimVentions Inc., Fredericksburg, VA; SIPPA Solutions LLC, Bayside, NY; Soar Technology, Inc., Ann Arbor, MI; Solers, Inc., Arlington, VA; Solute, Inc., San Diego, CA; Space Sciences Corporation, Lemitar, NM; Specialty Systems, Inc., Toms River, NJ; Spectral Analytics LLC, San Diego, CA; Spin Systems, Inc., Falls Church, VA; Stardog Union, Arlington, VA; SURVICE Engineering Company LLC, Belcamp, MD; Symantec Corporation, Mountain View, CA; Syncopated Engineering, Inc., Ellicott City, MD; Systematic, Inc., Centreville, VA; Technology Unlimited Group (TUG), San Diego, CA; Teradata Government Systems, Annapolis, MD; The Cameron Bell Corporation dba Gov Solutions Group, Charleston, SC; The Hard Yards LLC, Arlington, VA; The Informatics Applications Group, Inc. (TIAG), Reston, VA; The Metamorphosis Group, Inc., Vienna, VA; The Regents of the University of California, La Jolla, CA; The Samraksh Company, Dublin, OH; Toyon Research Corporation, Goleta, CA; Trace Systems, Inc., Vienna, VA; Trewon Technologies LLC, Stafford, VA; TrustedQA, Inc., Reston, VA; Unisys Corporation, Reston, VA; University of Florida (UF), Gainesville, FL; UtopiaCompression Corporation, Los Angeles, CA; Valkyrie Enterprises, Inc., Virginia Beach, VA; Vencore Inc. a Perspecta Company, Chantilly, VA; Ventech Solutions, Inc., Columbus, OH; Vigilant Technologies, Chandler, AZ; Virginia Polytechnic Institute and State University, Blacksburg, VA; Vista Defense Technologies LLC, Rock Island, IL; Vitech Corporation, Blacksburg, VA; VMware, Inc., Palo Alto, CA; Wang Electro-Opto Corporation, Marietta, GA; World Wide Technology, Maryland Heights, MO; Wyle Laboratories, Inc., Lexington Park, MD; and X-Feds, Inc., San Diego, CA.

The general area of IWRP's planned activity is conduct research, development, and prototyping of projects and programs in the following technology areas: Cyber Warfare; Data Science/Analytics Technologies; Assured Communications; Cloud Computing; Enterprise Resource Tools; Collaboration and Social Networking; Autonomy; Internet of Things (IoT) Embedded Systems; Mobility, Model Based Systems Engineering (MBSE); On-Demand Manufacturing; Assured Command and Control (AC2); Integrated Fires (IF); and Battlespace Awareness (BA).

Suzanne Morris,
Chief, Premerger and Division Statistics Unit, Antitrust Division.

[FR Doc. 2018-23092 Filed 10-22-18; 8:45 am]

BILLING CODE 4410-11-P